DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before June 11, 2025.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on May 1, 2025.
Donald P. Burger,
Chief, General Approvals and Permits Branch.

Application No. | Applicant | Regulation(s) affected | Nature of the special permits thereof
Special Permits Data—Granted
970-M | Linde Gas & Equipment Inc | 173.302a(e), 180.205(h) | To modify the special permit to authorize DOT 3AL cylinders.
14318-M | Department of Defense US Army Military Surface Deployment & Distribution Command | 178.274(b), 178.275(a), 178.276(b)(1), 180.605(d) | To modify the special permit to authorize an additional stainless steel in the fabrication of the portable tank.
16011-M | Americase, LLC | 172.102(c)(1), 173.185(c), 173.185(f) | To modify the special permit to authorize end-of-life batteries and various battery chemistries within the same outer packaging.
20777-M | Israel Aerospace Industries Ltd | 172.101(j)(1), 173.302a(a)(1), 173.304a(a)(1), 173.56, 173.185(b) | To modify the special permit to authorize a different Net Explosive Weight and origin and destination locations.
21129-M | Northrop Grumman Systems Corp | 173.301, 173.302 | To update the special permit with changed part numbers.
21428-M | Livewire EV LLC | 172.101(j), 173.220(d), 173.185(a)(1) | To modify the special permit to authorize lithium ion batteries each with a net weight greater than 35 kg aboard cargo-only aircraft.
21470-M | Honeywell Intellectual Properties Inc | 173.302(a)(1), 180.205, 180.207, 180.209, 180.211, 180.212, 180.213, 180.215 | To modify the special permit to increase the maximum service pressure from 10,000 psig to 10,400 psig to factor in the unilateral pressure tolerance during fill.
21503-M | Samsung Austin Semiconductor, LLC | 171.23(a), 173.304(a)(1), 173.304(a)(2) | To modify the special permit to authorize use of DOT-3AL specification cylinders.
21751-N | New Pig Corporation | 172.600, 172.700(a), 172.400, 172.200, 172.300, 173.185(c)(1)(iii), 173.185(f) | To authorize the manufacture, mark, sale, and use of steel drums for the transportation in commerce of the lithium ion cells and batteries, including those contained in equipment or packed with equipment, identified in the special permit.
21764-N | NPROXX B.V | 173.302(a)(1) | To authorize the manufacture, mark, sale, and use of a non-DOT specification fully wrapped fiber reinforced composite gas cylinder with a non-load sharing plastic liner.
21859-N | Plastipak Packaging, Inc | 178.33b-5(a), 178.33b-6(a) | To authorize the manufacture, mark, sale, and use of non-DOT specification plastic non-refillable inside containers conforming with all regulations applicable to a DOT specification 2S plastic inside container, except that recycled plastic may be used, for the transportation in commerce of the hazardous materials in paragraph 6.
21870-N | Air Transport International, Inc | 172.101(j), 172.301(c), 172.400(a), 172.500(a), 173.27(b)(1) | To authorize the transportation in commerce of certain Division 4.3, cesium devices via passenger-carrying aircraft, which are typically forbidden for transportation aboard passenger-carrying aircraft.
21874-N | Kary Environmental Services, Inc | 173.185(f)(1), 173.185(f)(2), 173.185(f)(3) | To authorize the transportation in commerce of damaged, defective, and recalled lithium batteries in alternative packaging.
21880-N | U.S. Department of Energy | 173.202 | To authorize the transportation in commerce of non-DOT specification non-bulk packagings containing the hazardous materials specified in paragraph 6.
21887-N | Aerofil Technology, Inc | 173.306(a)(5)(v), 173.306(a)(5)(vi) | To authorize the transportation in commerce of non-flammable, non-toxic compressed gases (Division 2.2) in DOT Specification 2S and non-DOT specification plastic aerosols not exceeding 1L capacity designed and tested through an in-line pressure testing approach under a quality management system.
21892-N | Electronic Fluorocarbons, LLC | 173.304a(a), 173.301(f) | To authorize the transportation in commerce of anhydrous ammonia in DOT 3AAX cylinders.
21907-N | BMW Manufacturing Co., LLC | 173.185(b)(3)(i) | To authorize the transportation in commerce of lithium ion batteries in alternative packaging.
21909-N | Stericycle, Inc | 172.200 | To authorize the transportation in commerce of certain Division 6.2 materials without requiring shipping papers.
21910-N | AESC US, LLC | 173.185(b)(6) | To authorize the transportation in commerce by motor vehicle of lithium ion cells packaged within a rigid plastic UN 50H Large Packaging.
21921-N | O'Bryan Barrel Company, Inc | 172.203(a), 172.301(c), 178.601(e) | To authorize the transportation in commerce of UN 1A1 and UN 1A2 steel drums that are subject to alternative periodic retest requirements.
21933-N | Seattle Children's Hospital | 173.199, 173.199(a)(4) | To authorize the transportation in commerce of live rodents infected with a Category B infectious substance.
21935-N | Umoe Advanced Composites | 173.302(a)(1) | To authorize the manufacture, mark, sale, and use of a non-DOT specification fully wrapped fiber reinforced composite gas cylinder with a non-load sharing plastic liner.
21944-N | Korean Airlines Co., Ltd | 172.101(j), 175.30(a)(1) | To authorize the transportation in commerce of certain explosives that are forbidden for transportation aboard cargo-only aircraft or exceed the authorized quantity limits for cargo-only aircrafts as specified in the Hazardous Materials Table.
21980-N | U.S. Tank & Cryogenics Equipment, Inc | 172.203(a), 172.301(c), 180.211(c)(2)(i) | To authorize the repair of certain DOT 4L cylinders without requiring pressure testing.
21998-N | Airwest Helicopters, LLC | 172.101(j), 172.200, 172.301(c), 173.1, 175.75 | To authorize the transportation in commerce of certain hazardous materials only in remote areas of the U.S. by 14 CFR Part 133 cargo-only aircraft (rotorcraft external load operations) in which hazardous materials are attached to or suspended from the aircraft, and Part 135, as applicable, without being subject to certain hazard communication requirements, quantity limitations and certain loading and stowage requirements.
Special Permits Data—Denied
21560-N | Osram Sylvania Inc | 173.436 | To authorize the transportation in commerce of lamps containing Class 7 materials with activity limits exceeding those specified in 49 CFR 173.436, as excepted packages.
21843-N | DDP Specialty Electronic Materials US, LLC | 172.203(a), 172.301(c), 173.306(a)(3)(v)(A) | To authorize the transportation in commerce of DOT 2Q specification inner containers where the lot size for the alternative hot water bath test is increased to 10,000 cylinders.
21918-N | Autoliv ASP, Inc | 172.704 | To authorize the transportation in commerce of non-specification packaging containing airbag inflators or modules shipped by ground.
Special Permits Data—Withdrawn
21188-M | National Institutes of Health | 173.199 | To update point of contact and locations where the special permit will be used.
21831-N | Boyd Lancaster, Inc | 172.101(j), 172.101(j)(1), 173.301(f), 173.302a(a)(1), 173.304a(a)(2), 173.306(e) | To authorize the transportation in commerce of non-DOT specification containers (heat pipes) containing certain Class 2 materials for use in specialty cooling applications such as satellites and military aircraft.
21926-N | Greenhill Trading Inc | 172.315, 172.315(a), 172.315(c) | To incorporate the reduced-size limited quantity marking on shipping labels.
21953-N | Exolaunch, Inc | 172.300, 172.400, 173.301(g), 173.302(a) | To authorize the transportation by private vehicle of a cubesat satellite from the location of satellite fueling to the launch location.
21989-N | Hydro-Chem Systems, Inc | 173.13 | To authorize the transportation in commerce of 5-gallon DOT-specification packaging of UN2922 with alternative hazard communication.
21991-N | Air Resources Board | 173.301(g) | To authorize the transportation in commerce of one or more cylinders containing certain hazardous materials, where the cylinder valve is open, for the purpose of measuring brake particulate emissions.

[FR Doc. 2025-08273 Filed 5-9-25; 8:45 am]

BILLING CODE P